DEPARTMENT OF TRANSPORTATION

Federal Aviation Administration

Public Notice for Waiver of Aeronautical Land-Use Assurance Rhinelander-Oneida County Airport, Rhinelander, WI

AGENCY: Federal Aviation Administration, DOT.

ACTION: Notice of intent of waiver with respect to land.

SUMMARY: The Federal Aviation Administration (FAA) is giving notice that a portion of the airport property containing 0.95 acres located in the southeast corner of the airport, south of and immediately adjacent to U.S. Highway (USH) 8, is not needed for aeronautical use as currently identified on the Airport Layout Plan.

The subject of this request is acreage which was originally acquired through Grant No. FAAP-9-47-027-C904 in 1966 as part of an FAA project related to Runway 33. The parcel is presently wooded and undeveloped. The airport wishes to convey ownership of the parcel of vacant land to the Wisconsin Department of Transportation to facilitate planned widening of USH 8 from the present two lanes to four lanes.

Acquisition of the property is needed for site grading. Income from the sale will be used to improve the airport. There are no impacts to the airport by allowing the airport to dispose of the property.

In accordance with section 47107(h) of title 49, United States Code, this notice is required to be published in the Federal Register 30 days before modifying the land-use assurance that requires the property to be used for an aeronautical purpose.

DATES: Comments must be received on or before September 24, 2001.

FOR FURTHER INFORMATION CONTACT: Mr. Daniel J. Millenacker, Program Manager, Federal Aviation Administration, Airports District Office, 6020 28th Avenue South, Room 102, Minneapolis, MN 55450-2706. Telephone Number (612) 713-4359/FAX Number (612) 713-4364. Documents reflecting this FAA action may be reviewed at this same location or at the Rhinelander-Oneida County Airport, Rhinelander, WI.

SUPPLEMENTARY INFORMATION: This notice announces that the FAA intends to authorize the disposal of the subject airport property at Rhinelander-Oneida County Airport, Rhinelander, WI. Approval does not constitute a commitment by the FAA to financially assist in the disposal of the subject airport property nor a determination that all measures covered by the program are eligible for Airport Improvement Program funding from the FAA. The disposition of proceeds from the disposal of the airport property will be in accordance with FAA's Policy and Procedures Concerning the Use of Airport Revenue, published in the Federal Register on February 16, 1999.

Issued in Minneapolis, MN on July 30, 2001.
Nancy M. Nistler,
Manager, Minneapolis Airports District Office, FAA, Great Lakes Region.

[FR Doc. 01-21356 Filed 8-22-01; 8:45 am]

BILLING CODE 4910-13-M